DEPARTMENT OF AGRICULTURE

Food and Nutrition Service

Agency Information Collection Activities: Proposed Collection; Comment Request—Enhancing Completion Rates for Supplemental Nutrition Assistance Program (SNAP) Quality Control Reviews

AGENCY: Food and Nutrition Service (FNS), USDA.

ACTION: Notice.

SUMMARY: In accordance with the Paperwork Reduction Act of 1995, this notice invites the general public and other public agencies to comment on this proposed information collection. This is a new collection for Enhancing Completion Rates for SNAP Quality Control Reviews.

DATES: Written comments must be received on or before September 24, 2013.

ADDRESSES: Comments are invited on (a) Whether the proposed collection of information is necessary for the proper performance of the functions of the agency, including whether the information shall have practical utility; (b) the accuracy of the agency's estimate of the burden of the proposed collection of information, including the validity of the methodology and assumptions that were used; (c) ways to enhance the quality, utility and clarity of the information to be collected; and (d) ways to minimize the burden of the collection of information on those who are to respond, including the use of appropriate automated, electronic, mechanical or other technological collection techniques or other forms of information technology.

Comments may be sent to Steven Carlson, Office of Research and Analysis, Food and Nutrition Service, U.S. Department of Agriculture, 3101 Park Center Drive, Room 1014, Alexandria, VA 22302. Comments may also be submitted via fax to the attention of Steven Carlson at 703-305-2576 or via email to Steve.Carlson@fns.usda.gov. Comments will also be accepted through the Federal eRulemaking Portal. Go to http://www.regulations.gov, and follow the online instructions for submitting comments electronically.

All written comments will be open for public inspection at the office of the Food and Nutrition Service during regular business hours (8:30 a.m. to 5:00 p.m. Monday through Friday) at 3101 Park Center Drive, Room 1014, Alexandria, VA 22302.

All responses to this notice will be summarized and included in the request for Office of Management and Budget approval. All comments will be a matter of public record.

FOR FURTHER INFORMATION CONTACT: Requests for additional information or copies of this information collection should be directed to Steven Carlson at 703-305-2017.

SUPPLEMENTARY INFORMATION: Title: Enhancing Completion Rates for SNAP (Supplemental Nutrition Assistance Program) Quality Control Reviews.

OMB Number: Not yet assigned.

Expiration Date: Not yet determined.

Type of Request: New collection of information.

Abstract:

Section 17 [7 U.S.C. 2026] (a)(1) of the Food and Nutrition Act of 2008, provides general legislative authority for the planned data collection. It authorizes the Secretary of Agriculture to enter into contracts with private institutions to undertake research that will help improve the administration and effectiveness of SNAP in delivering nutrition-related benefits.

States conduct monthly quality control (QC) reviews of a statistical sample of households participating in SNAP to assess the validity of SNAP cases and, ultimately, the error rate for SNAP. This requires completing as many reviews as possible. However, beginning in 1985, the completion rate of sampled QC reviews decreased nationally, reaching a low in FY 2006. The completion rate has increased somewhat since then, but not to previous levels. Completion rates vary considerably among States as well. This research will identify the factors associated with incomplete reviews in active SNAP cases and recommend ways to enhance completion rates for SNAP QC reviews.

Primary data collected from persons involved in conducting and monitoring the QC reviews and extant State administrative data, will be analyzed to compare information across the States; provide descriptive estimates of the contribution to payment error associated with incomplete reviews; and assess the need to adjust the current procedures for treating incomplete cases.

The information collection includes site visits at six State agencies, in-depth (semi-structured) interviews with SNAP QC staff during those site visits, and Web and telephone interviews with SNAP QC staff in the remaining 47 States not being visited. The SNAP QC director, up to two SNAP QC supervisors and up to five State QC reviewers from each State will be interviewed.¹

¹ Additional information contributing to this research will be collected from FNS regional offices and staff acting in their official capacities (not subject to OMB approval) and SNAP participants sampled for QC with incomplete reviews (OMB approval previously granted for the QC Review Schedule (0584-0299) and Worksheet for QC Reviews (0584-0074)).

The specific research objectives are to: describe the process of conducting a QC review at the State and Federal levels; describe the characteristics of incomplete cases and compare them to complete cases using extant administrative case file data; describe the challenges and best practices in the QC review process at the State level; determine whether incomplete cases are being reviewed and processed correctly; determine the impact of incomplete cases on overall payment error; and determine the extent to which incomplete cases bias the data in the QC database.

Affected Public:

State Employees: Respondent groups identified include (1) State QC directors, if the position exists or State SNAP directors, in all 53 SNAP States; (2) State QC supervisors in 53 SNAP States, up to 2 per State (if more than 2 in a State, selected as a sample of convenience); and (3) State QC reviewers from 53 SNAP States, up to 5 per State (if more than 5 in a State, selected as a sample of convenience).

Estimated Number of Respondents:

The total estimated number of respondents is 424. This includes 53 State QC or State SNAP directors (1 in the pretest, 100 percent of whom will complete interviews; 6 in person, 100 percent of whom will complete interviews; and 46 online or by telephone, 78 percent of whom will complete surveys); 106 State QC supervisors (3 in the pretest, 100 percent of whom will complete interviews; 12 in person, 100 percent of whom will complete interviews; and 91 online or by telephone, 81 percent of whom will complete surveys); and 265 State QC reviewers (5 in the pretest, 100 percent of whom will complete interviews; 30 in person, 100 percent of whom will complete interviews; and 230 online or by telephone, 81 percent of whom will complete surveys).

Estimated Number of Responses per Respondent:

All respondents (State SNAP QC directors or State SNAP directors, State SNAP QC supervisors, and State SNAP QC reviewers) will respond once each, either one in-person interview or one Web or telephone survey. In addition, all SNAP QC directors will be contacted with an advance letter and six will receive follow-up communications to arrange site visits.

Estimated Total Annual Responses:

The estimated total annual responses is 1,040, including initial recruitment and coordination communications, pretests and completed interviews and surveys.

Estimated Time per Response:

Response times may vary from 0.05 to 1 hour depending on actual activity and respondent group. The estimated time per interview is 0.5 hours to 1 hour, depending on respondent group and interview mode, as shown in the table below.

Estimated Total Annual Burden on Respondents:

The estimated total annual burden on respondents is 255.60 hours (including recruitment communications and completed and attempted interviews and surveys). See the table below for estimated total annual burden for each type of respondent.

BILLING CODE 3410-30-P

Dated: July 16, 2013.
Audrey Rowe,
Administrator, Food and Nutrition Service.

[FR Doc. 2013-17997 Filed 7-25-13; 8:45 am]

BILLING CODE 3410-30-C